DEPARTMENT OF TRANSPORTATION

Federal Aviation Administration

Commercial Space Transportation Advisory Committee—Open Meeting

AGENCY: Federal Aviation Administration (FAA), DOT.

ACTION: Notice of Commercial Space Transportation Advisory Committee open meeting.

SUMMARY: Pursuant to Section 10(a)(2) of the Federal Advisory Committee Act (Pub. L. 92-463, 5 U.S.C. App. 2), notice is hereby given of a meeting of the Commercial Space Transportation Advisory Committee (COMSTAC). The meeting will take place on Thursday, October 30, 2003, from 8 a.m. to 5 p.m. at the Federal Aviation Administration Headquarters Building, 800 Independence Avenue SW., Washington, DC, in the Bessie Coleman Conference Center, 2nd Floor. This will be the thirty-eighth meeting of the COMSTAC.

The proposed agenda for the meeting will include a briefing from members of the Columbia Accident Investigation Board focusing on the post-Columbia implications for all United States space sectors, updates on current commercial space transportation legislation, and an activities report from FAA's Associate Administrator for Commercial Space Transportation. Meetings of the COMSTAC Working Groups (Technology and Innovation, Reusable Launch Vehicle, Risk Management, and Launch Operations and Support) will be held on Wednesday, October 29, 2003. For specific information concerning the times and locations of these meetings, contact the Contact Person listed below.

Individuals who plan to attend and need special assistance, such as sign language interpretation or other reasonable accommodations, should inform the Contact Person listed below in advance of the meeting.

FOR FURTHER INFORMATION CONTACT: Brenda Parker (AST-200), Office of the Associate Administrator for Commercial Space Transportation (AST), 800 Independence Avenue SW., Room 331, Washington, DC 20591, telephone (202) 385-4713; e-mail brenda.parker@faa.dot.gov.

Issued in Washington, DC, September 11, 2003.
Patricia G. Smith,
Associate Administrator for Commercial Space Transportation.

[FR Doc. 03-23971 Filed 9-18-03; 8:45 am]

BILLING CODE 4910-13-P